DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) Whether the proposed collection of information is necessary for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Data Collection Tool for Rural Health Community-Based Grant Programs (OMB No. 0915-0319)—[Revision]

On May 20, 2008, OMB approved the Agency's request for the collection of data related to program and clinical measures (OMB No. 0915-0319) and set an expiration date of May 31, 2011. The Agency is now proceeding to submit a revised package which will include program specific measures that are further aligned with the agency's updated clinical measures. These measures were modified based on the feedback received from grantees and to reflect ORHP and HRSA's current priorities and clarify certain measures across all 330A programs. In addition, these revisions will enhance data collection and analysis in an effort to strengthen the value of the data collection tool.

There are currently six rural health grant programs that operate under the authority of Section 301 of the Public Health Service (PHS) Act. These programs include: (1) Rural Health Care Services Outreach Grant Program (Outreach); (2) Rural Health Network Development Grant Program (Network Development); (3) Small Healthcare Provider Quality Grant Program (Quality); (4) Delta States Rural Development Network Grant Program (Delta); (5) Network Planning Grant Program and (6) Rural Health Workforce Development Grant Program. These grants are to provide for the expanded delivery of health care services, the planning and implementation of integrated health care networks, and the planning and implementation of quality improvement and workforce activities—all in rural areas.

For these programs, performance measures were drafted to provide data useful to the programs and to enable HRSA to provide aggregate program data required by Congress under the Government Performance and Results Act (GPRA) of 1993. These measures cover the principal topic areas of interest to ORHP, including: (a) Access to care; (b) the underinsured and uninsured; (c) workforce recruitment and retention; (d) sustainability; (e) health information technology; (f) network development, and (g) health related clinical measures. Several measures will be used for all six programs. All measures will speak to the Office's progress toward meeting the goals set.

The annual estimate of burden is as follows:

Instrument | Number of respondents | Responses per respondent | Total responses | Hours per response | Total burden hours
Rural Health Care Services Outreach Grant Program | 111 | 1 | 111 | 2.75 | 305.25
Rural Health Network Development | 49 | 1 | 49 | 2 | 98
Delta States Rural Development Network Grant Program | 12 | 1 | 12 | 3 | 36
Small Health Care Provider Quality Improvement Grant Program | 59 | 1 | 59 | 6 | 354
Network Development Planning Grant Program | 30 | 1 | 30 | 1 | 30
Rural Health Workforce Development Program | 20 | 1 | 20 | 1.75 | 35
Total | 281 |  | 281 |  | 858.25

E-mail comments to paperwork@hrsa.gov or mail the HRSA Reports Clearance Officer, Room 10-33, Parklawn Building, 5600 Fishers Lane, Rockville, MD 20857. Written comments should be received within 60 days of this notice.

Dated: December 1, 2010.
Robert Hendricks,
Director, Division of Policy and Information Coordination.

[FR Doc. 2010-30894 Filed 12-7-10; 8:45 am]

BILLING CODE 4165-15-P